DEPARTMENT OF DEFENSE

Office of the Secretary

[Docket ID DOD-2010-OS-0173]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by February 25, 2011.

ADDRESSES: You may submit comments, identified by docket number and title, by any of the following methods:

• Federal eRulemaking Portal: http://www.regulations.gov. Follow the instructions for submitting comments.

• Mail: Federal Docket Management System Office, Room 3C843, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) Department of Defense Education Activity, Attn: Dr. Sandra Embler, 4000 Defense Pentagon, Washington, DC 20301-4000 or call (703) 588.3175.

Title and OMB Control Number: DoDEA Continuous School Improvement Student and Parent Surveys, OMB Control Number 0704-TBD.

Needs and Uses: This information collection requirement is necessary in order for schools to identify areas for improvement. Under the DoDEA Community Strategic Plan, individual schools have a need to collect data from student(s) and parent(s)/guardian(s) to identify school-related issues to be addressed through the school improvement process. Information gathered via these voluntary data collections will provide individual schools information to determine student and parent/guardian perceptions of school processes; provide early detection of school problems; and focus attention on areas that will improve the quality of education. Schools do not have existing data to meet this need.

Affected Public: Individuals or households.

Annual Burden Hours: 720.

Number of Respondents: 2160.

Responses per Respondent: 1.

Average Burden per Response: 20 minutes.

Frequency: Annually.

SUPPLEMENTARY INFORMATION:

Summary of Information Collection

Every school in the Department of Defense Education Activity is required annually to develop a school improvement plan. This plan is necessary to fulfill DoDEA's Community Strategic Plan as well as meet the requirements set forth by AdvancED, the accrediting agency for DoDEA's schools. To develop their individual plans, schools have a need to collect information from students and parents in seven primary areas: (1) School's vision and purpose, (2) leadership, (3) instruction, (4) assessments, (5) available resources and support, (6) communication, and (7) commitment to continuous improvement. The information gained from this data collection will be used to guide schools in identifying areas of need, developing strategies to address areas of concern, and to monitor effects of strategies on major stakeholders.

Dated: December 20, 2010.
Morgan F. Park,
Alternate OSD Federal Register Liaison Officer, Department of Defense.

[FR Doc. 2010-32389 Filed 12-23-10; 8:45 am]

BILLING CODE 5001-06-P